DEPARTMENT OF HEALTH AND HUMAN SERVICES

Centers for Disease Control and Prevention

[Program Announcement 03072]

Strengthen Indian Network of Positive People Chennai, India; Notice of Intent To Fund Single Eligibility Award

A. Purpose

The Centers for Disease Control and Prevention (CDC) announces the intent to fund fiscal year (FY) 2003 funds for a cooperative agreement program for the development and implementation of programs aimed at improving the quality of life for people living with AIDS in India. The Catalog of Federal Domestic Assistance number for this program is 93.941.

B. Eligible Applicant

Assistance will be provided only to the Indian Network of Positive People (INP+). INP+ is in a unique position to provide linkages between the GHTM and community level health care and support for individuals who are HIV+ and their families. INP+ has the experience in the development, testing and production of education and training materials for prevention and care that are sensitive and can meet the needs of the positive community.

C. Funding

Approximately $40,000 is available in FY 2003 to fund this award. It is expected that the award will begin on or before September 1, 2003, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Nancy Hedemark Nay, MPH, Associate Director for Operations, Global AIDS Program, c/o U.S. Consulate, 220 Mount Road, Chennai, 600 006, India, Telephone: 91-44-2811-2000, E-mail address: nhn1@cdc.gov.

Dated: June 4, 2003.
Sandra R. Manning,
Director, Procurement and Grants Office, Centers for Disease Control and Prevention.

[FR Doc. 03-14669 Filed 6-10-03; 8:45 am]

BILLING CODE 4163-18-P